DEPARTMENT OF LABOR

Occupational Safety and Health Administration

[Docket No. OSHA-2010-0021]

Susan Harwood Training Grant Program; Revision of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the Susan Harwood Training Grant Program.

DATES: Comments must be submitted (postmarked, sent, or received) by March 27, 2023.

ADDRESSES:

Electronically: You may submit comments and attachments electronically at http://www.regulations.gov, which is the Federal eRulemaking Portal. Follow the instructions online for submitting comments.

Docket: To read or download comments or other material in the docket, go to http://www.regulations.gov. Documents in the docket are listed in the http://www.regulations.gov index; however, some information (e.g., copyrighted material) is not publicly available to read or download through the website. All submissions, including copyrighted material, are available for inspection through the OSHA Docket Office. Contact the OSHA Docket Office at (202) 693-2350 (TTY (877) 889-5627) for assistance in locating docket submissions.

Instructions: All submissions must include the agency name and OSHA docket number (OSHA-2010-0021) for the Information Collection Request (ICR). OSHA will place all comments, including any personal information, in the public docket, which may be made available online. Therefore, OSHA cautions interested parties about submitting personal information such as social security numbers and birthdates.

For further information on submitting comments, see the “Public Participation” heading in the section of this notice titled SUPPLEMENTARY INFORMATION.

FOR FURTHER INFORMATION CONTACT: Seleda Perryman or Theda Kenney, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

Section 21 of the Occupational Safety and Health Act of 1970 (the “OSH Act”) (29 U.S.C. 670) authorizes the Occupational Safety and Health Administration (OSHA) to conduct directly, or through grants and contracts, education, and training courses. These courses must ensure an adequate number of qualified personnel to fulfill the purposes of the Act, provide them with short-term training, inform them of the importance and proper use of safety and health equipment, and train employers and workers to recognize, avoid, and prevent unsafe and unhealthful working conditions.

Under Section 21, the agency awards training grants to nonprofit organizations to provide part of the training. Organizations that receive these grants must submit the Grantee Quarterly Progress Report (GQPR; OSHA 171, Revised 5/14) as required by the Department of Labor under 29 CFR 95.51. This regulation states that grant recipients (grantees) must submit progress reports to the awarding agency at least annually but no more than quarterly. The reports must contain a comparison of actual accomplishments with goals and objectives established for the reporting period and, if appropriate, the program's output.

Therefore, the GQPR allows OSHA to monitor a grantee's performance and to determine if a recipient is using funds as specified in its grant application. After the grant recipient submits a GQPR, the agency compares the information provided by the grant recipient in the report to the quarterly milestones proposed by the grant recipient in the work plan and budget that accompanied its grant application.

This information includes: identifier data (organization name, grant number, and period covered by the report); the date and location where the training occurred; the number of workers and employers attending training sessions provided by the organization during the quarter; the class length (in quarter hours); the language used to deliver the training; a description of the training provided; a narrative account of grant activities during the quarter (including capacity building activities, needs assessment activities, development of training materials/curriculum, evaluation activities, and other educational activities); and an evaluation of progress regarding planned versus actual work accomplished.

Using this information, OSHA can determine if the grant recipient is meeting the proposed program goals and objectives, as described in the grant proposal, and is spending funds consistent with the proposed budget.

The lack of disaggregated demographic data variables impedes efforts to measure and advance equity. Section 9 of the E.O. 13895 on Advancing Racial Equity and Support for Underserved Communities Through the Federal Government requires each agency to evaluate whether their policies produce racially inequitable results when implemented and make necessary changes to ensure underserved communities are adequately supported. Our first step is to collect disaggregated age, race, ethnicity, gender, and language datasets to make informed program decisions and strategies.

Requiring these reports on a quarterly basis enables the agency to identify training and expenditure discrepancies in a timely fashion so that it can implement appropriate action. In addition, this information permits OSHA to assess a grant recipient's ability to meet projected milestones and expenditures.

This ICR requests a revision to add race, ethnicity, and language to a currently approved data collection. By conducting an equity assessment to meet the requirements of Executive Order (E.O.) 13895 on Advancing Racial Equity and Support for Underserved Communities Through the Federal Government and the DOL Evidence Building Act Evaluation Plan, Project 38 (See Section 15).

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection, and transmission techniques.

III. Proposed Actions

OSHA is requesting that OMB revise the approval of the information collection requirements contained in Susan Harwood Training Grant Program. The agency is requesting a program change from 6,160 hours to 6,324 hours, a difference of 164 hours. This increase is due to the addition of the processing of the additional demographic data required for the data collection.

OSHA will summarize the comments submitted in response to this notice and will include this summary in the request to OMB to extend the approval of the information collection requirements.

Type of Review: Revision of a currently approved collection.

Title: Susan Harwood Training Grant Program.

OMB Control Number: 1218-0100.

Affected Public: Business or other for-profits.

Number of Respondents: 93.

Number of Responses: 372.

Frequency of Responses: On occasion.

Average Time per Response: Varies.

Estimated Total Burden Hours: 6,324.

Estimated Cost (Operation and Maintenance): $0.

IV. Public Participation—Submission of Comments on This Notice and Internet Access to Comments and Submissions

You may submit comments in response to this document as follows: (1) electronically at http://www.regulations.gov, which is the Federal eRulemaking Portal; (2) by facsimile (fax); if your comments, including attachments, are not longer than 10 pages you may fax them to the OSHA Docket Office at 202-693-1648. or (3) by hard copy. Please note: While OSHA's Docket Office is continuing to accept and process submissions by regular mail due to the COVID-19 pandemic, the Docket Office is closed to the public and not able to receive submissions to the docket by hand, express mail, messenger, and courier service. All comments, attachments, and other material must identify the agency name and the OSHA docket number for the ICR (Docket No. OSHA-2010-0021). You may supplement electronic submissions by uploading document files electronically. If you wish to mail additional materials in reference to an electronic or a facsimile submission, you must submit them to the OSHA Docket Office (see the section of this notice titled ADDRESSES). The additional materials must clearly identify your electronic comments by your name, date, and the docket number so that the agency can attach them to your comments.

Due to security procedures, the use of regular mail may cause a significant delay in the receipt of comments.

Comments and submissions are posted without change at http://www.regulations.gov. Therefore, OSHA cautions commenters about submitting personal information such as social security numbers and dates of birth. Although all submissions are listed in the http://www.regulations.gov index, some information (e.g., copyrighted material) is not publicly available to read or download from this website. All submissions, including copyrighted material, are available for inspection and copying at the OSHA Docket Office. Information on using the http://www.regulations.gov website to submit comments and access the docket is available at the website's “User Tips” link. Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC.
James S. Frederick,
Deputy Assistant Secretary of Labor for Occupational Safety and Health.

[FR Doc. 2023-01561 Filed 1-25-23; 8:45 am]

BILLING CODE 4510-26-P